DEPARTMENT OF LABOR

Mine Safety and Health Administration

30 CFR Part 100

[Docket No. MSHA-2014-0009]

RIN 1219-AB72

Criteria and Procedures for Assessment of Civil Penalties

AGENCY: Mine Safety and Health Administration, Labor.

ACTION: Proposed rule; notice of public hearings; extension of comment period; close of record.

SUMMARY: The Mine Safety and Health Administration (MSHA) will hold two additional public hearings on the Agency's proposed rule for Criteria and Procedures for Assessment of Civil Penalties.

DATES: MSHA will hold public hearings on February 5, 2015, and February 12, 2015, at the locations listed in the SUPPLEMENTARY INFORMATION section of this document.

Post-hearing comments must be received or postmarked by midnight Eastern Standard Time on March 12, 2015.

ADDRESSES: Submit comments, informational materials, and requests to speak, identified by RIN 1219-AB72 or Docket No. MSHA-2014-0009, by one of the following methods:

• Federal E-Rulemaking Portal: http://www.regulations.gov. Follow the on-line instructions for submitting comments.

• E-Mail: zzMSHA-comments@dol.gov. Include RIN 1219-AB72 or Docket No. MSHA-2014-0009 in the subject line of the message.

• Mail: MSHA, Office of Standards, Regulations, and Variances, 1100 Wilson Boulevard, Room 2350, Arlington, Virginia 22209-3939.

• Hand Delivery or Courier: MSHA, 1100 Wilson Boulevard, Room 2350, Arlington, Virginia, between 9:00 a.m. and 5:00 p.m., Monday through Friday, except Federal holidays. Sign in at the receptionist's desk on the 21st floor.

• Fax: 202-693-9441.

Instructions: All submissions must include “MSHA” and “RIN 1219-AB72” or “Docket No. MSHA-2014-0009.” Do not include personal information that you do not want publicly disclosed; MSHA will post all comments without change to http://www.regulations.gov and http://www.msha.gov/currentcomments.asp, including any personal information provided. For additional instructions for participation in Public Hearings on this rulemaking, see the “Public Hearings” heading of the SUPPLEMENTARY INFORMATION section of this document.

Docket: For access to the docket to read comments received, go to http://www.regulations.gov or http://www.msha.gov/currentcomments.asp. To read background documents, go to http://www.regulations.gov. Review the docket in person at MSHA, Office of Standards, Regulations, and Variances, 1100 Wilson Boulevard, Room 2350, Arlington, Virginia, between 9:00 a.m. and 5:00 p.m. Monday through Friday, except Federal Holidays. Sign in at the receptionist's desk on the 21st floor.

Email notification: To subscribe to receive an email notification when MSHA publishes rules, program information, instructions, and policy, in the Federal Register, go to http://www.msha.gov/subscriptions/subscribe.aspx.

FOR FURTHER INFORMATION CONTACT: Sheila McConnell, Acting Director, Office of Standards, Regulations, and Variances, MSHA, at mcconnell.sheila.a@dol.gov (email); 202-693-9440 (voice); or 202-693-9441 (facsimile).

SUPPLEMENTARY INFORMATION:

I. Background

On July 31, 2014, MSHA published a proposed rule (79 FR 44494) to amend its civil penalty regulation to simplify the criteria, which will promote consistency, objectivity, and efficiency in the proposed assessment of civil penalties and facilitate the resolution of enforcement issues. The proposal would place a greater emphasis on the more serious safety and health conditions and provide improved safety and health for miners. MSHA is also proposing alternatives that would address the scope and applicability of its civil penalty regulation.

In response to requests from the public, MSHA held public hearings on December 4, 2014, in Arlington, Virginia, and on December 9, 2014, in Denver, Colorado. The post-hearing comment period was scheduled to close on January 9, 2015.

II. Public Hearings

In response to requests from the public, MSHA will hold two additional public hearings on the proposed rule to provide the public an opportunity to present their views on this rulemaking. MSHA is holding the hearings on the following dates at the locations indicated:

Date | Location | Contact No.
Thursday, February 5, 2015 | Sheraton Birmingham Hotel, 2101 Richard Arrington Jr. Boulevard North, Birmingham, AL 35203 | 205-324-5000
Thursday, February 12, 2015 | Embassy Suites Chicago—Downtown, 600 N. State Street, Chicago, IL 60654 | 312-943-3800

The hearings will begin with an opening statement from MSHA, followed by oral presentations from members of the public. The public hearings will begin at 9:00 a.m. and end no later than 5:00 p.m., or earlier if the last person presenting testimony has spoken.

Persons and organizations wishing to speak are encouraged to notify MSHA in advance for scheduling purposes. Persons do not have to make a written request to speak; however, MSHA will give priority to persons who have notified us, in advance, of their intent to speak and will provide others an opportunity to present oral testimony if time allows. MSHA requests that parties making presentations at the hearings submit them no later than five days prior to the hearing. Testimony, presentations, and accompanying documentation will be included in the rulemaking record.

The hearings will be conducted in an informal manner. Formal rules of evidence and cross examination will not apply. The hearing panel may ask questions of speakers and speakers may ask questions of the hearing panel. Verbatim transcripts of the proceedings will be prepared and made a part of the rulemaking record. Copies of the transcripts will be available to the public on http://www.regulations.gov and on MSHA's Web site at http://www.msha.gov/tscripts.htm.

Commenters are requested to be specific in their comments and submit detailed rationale and supporting documentation for any comment or suggested alternative as MSHA cannot sufficiently evaluate general comments. All comments must be received or postmarked by March 12, 2015.

Dated: December 23, 2014.
Joseph A. Main,
Assistant Secretary of Labor for Mine Safety and Health.

[FR Doc. 2014-30578 Filed 12-30-14; 8:45 am]

BILLING CODE 4510-43-P